DEPARTMENT OF THE INTERIOR

Bureau of Land Management

[CA-960-09-L5101000.ER0000 LVRWB09B2400; CACA-48668, 49501, 49502, 49503]

Notice of Availability of the Draft Ivanpah Solar Electric Generation System Environmental Impact Statement and the Draft California Desert Conservation Area Plan Amendment

AGENCY: Bureau of Land Management, Interior.

ACTION: Notice of availability.

SUMMARY: In accordance with the National Environmental Policy Act of 1969 (NEPA), as amended, and the Federal Land Policy and Management Act of 1976, as amended, the Bureau of Land Management (BLM) has prepared a Draft Environmental Impact Statement (DEIS) for the Ivanpah Solar Electric Generation System (ISEGS) and an associated Draft Resource Management Plan Amendment (DRMPA) for the California Desert Conservation Area. By this notice, the BLM is announcing the availability of these documents and the opening of the comment period.

DATES: To ensure that comments on the DEIS and DRMPA will be considered, the BLM must receive them within 90 days following the date the Environmental Protection Agency publishes its Notice of Availability in the Federal Register. The BLM will announce meetings or hearings and any other public involvement activities at least 15 days in advance through public notices, media releases, and/or mailings.

ADDRESSES: You may submit comments by any of the following methods:

• Web site: http://www.blm.gov/ca/st/en/info/nepa.html.

• E-mail: ca690@ca.blm.gov.

• Fax: (760) 326-7099 Attn: George Meckfessel.

• Mail: George Meckfessel, Planning and Environmental Coordinator, Bureau of Land Management, Needles Field Office, 1303 South U.S. Highway 95, Needles, CA 92363.

• In person: At any public meeting and/or hearing that BLM schedules for the DEIS/DRMPA during the comment period.

Copies of the DEIS/DRMPA are available in the Needles Field Office at the above address; the California State Office, Public Room, 2800 Cottage Way, Suite W-1623, Sacramento, CA 95825; and electronically on the following Web site: http://www.blm.gov/ca/st/en/info/nepa.html.

FOR FURTHER INFORMATION CONTACT: Tom Hurshman, Project Manager, (970) 240-5345; Bureau of Land Management, 2465 South Townsend Ave., Montrose, CO 81401; e-mail tom_hurshman@blm.gov.

SUPPLEMENTARY INFORMATION:

Solar Partners I, LLC, Solar Partners II, LLC, Solar Partners IV, LLC and Solar Partners VIII, LLC, wholly owned subsidiaries of Bright Source Energy, Inc. (the applicant), have applied for right-of-way (ROW) grants on public lands to develop a 400 megawatt (MW) solar thermal power plant and a shared administrative complex/construction logistics area on approximately 4,073 acres of public land in Southern California. The proposed 400 MW generation project would be constructed in three phases: (1) 100 MW (Ivanpah 1) and the shared administrative complex/construction logistics area; (2) 100 MW (Ivanpah 2); and (3) 200 MW (Ivanpah 3). The project site is located entirely on public land approximately 4.5 miles southwest of Primm, Nevada. These concentrating solar energy power plants would use distributed power tower and heliostat (mirror) technology, in which heliostat fields focus solar energy on power tower receivers near the center of each heliostat array. The completed 400 MW project would incorporate seven 459-foot tall power towers and approximately 214,000 heliostats (each holding two flat mirrors). Each of the three proposed plants (Ivanpah 1, 2, and 3) would have an individual power block with steam turbine, air-cooled condenser, switchyard, and generation tie-line. The three plants would share access roads, two groundwater wells and water lines, an administrative/maintenance complex, a new substation, a new 5.3-mile natural gas pipeline, and temporary construction staging areas. The DEIS addresses the impacts of the entire 400 MW generation project and does not analyze the environmental impacts for each phase of development separately.

The plants would be connected to the Southern California Edison (SCE) electric power grid through upgrades to SCE's electric transmission line passing through the site and the new substation. The three phases would take several years to construct. Once completed, the solar power plants are expected to operate for 50 years or more. Construction of the first phase of the project is anticipated to begin in 2010 and be completed in 2013.

On November 6, 2007, the BLM published in the Federal Register a Notice of Intent (72 FR 62671) to prepare an EIS and Staff Assessment jointly with the CEC under NEPA and the California Environmental Quality Act. The BLM and CEC held public scoping meetings in January 2007 and have held a series of public workshops since then to discuss project changes and mitigation measures. Potential impacts to specific resources such as groundwater (quality and quantity), threatened and endangered species (desert tortoise), vegetation, visual resources, desert bighorn sheep, domestic livestock grazing, and recreation on the Ivanpah Dry Lake were identified during scoping and analyzed in the DEIS.

The DEIS evaluates alternatives to approve the proposed action, approve with modifications, or deny the ROW application for the ISEGS project as proposed. The BLM will also consider the DRMPA to the California Desert Conservation Area Plan to allow for the ISEGS project. The DEIS analyzed 22 alternative site locations and technologies to the ISEGS project. None of these 22 alternatives met the BLM purpose and need for the proposed action and as such were eliminated from detailed analysis.

Resources that may be affected include, but are not limited to: Desert tortoise, visual resources, cultural resources, ephemeral stream channels, soils, and vegetation.

Please note that public comments and information submitted including names, street addresses, and e-mail addresses of respondents will be available for public review and disclosure at the above addresses for the BLM California State Office and Needles Field Office during regular business hours (8 a.m. to 4 p.m.), Monday through Friday, except holidays.

Before including your address, phone number, e-mail address, or other personal identifying information in your comment, you should be aware that your entire comment—including your personal identifying information—may be made publicly available at any time. While you may ask us in your comment to withhold your personal identifying information from public review, we cannot guarantee that we will be able to do so.

Authority: 40 CFR 1506.10 and 1610.2

Tom Pogacnik,
Deputy State Director for Natural Resources, California State Office.

[FR Doc. E9-27116 Filed 11-9-09; 8:45 am]

BILLING CODE 4310-40-P